DEPARTMENT OF DEFENSE

Department of the Army

[Docket ID: USA-2020-HQ-0016]

Proposed Collection; Comment Request

AGENCY: Department of the Army, DoD.

ACTION: Information collection notice.

SUMMARY: In compliance with the Paperwork Reduction Act of 1995, the Department of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 18, 2020.

ADDRESSES: You may submit comments, identified by docket number and title, by any of the following methods:

Federal eRulemaking Portal: http://www.regulations.gov. Follow the instructions for submitting comments.

Mail: The Department of Defense (DoD) cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to United States Army Installation Management Command Headquarters, 2405 Gun Shed Road, Bldg. 2261 JBSA-Fort Sam Houston, TX 78234, ATTN: Mrs. Kelly Frank, or call 210-466-1200.

SUPPLEMENTARY INFORMATION: Title; Associated Form; and OMB Number: Installation Management Command Survivor Outreach Service System (SOS IMCOM); OMB Control Number 0702-XXXX.

Needs and Uses: The SOS Module allows authorized staff members to collect program-specific information and record SOS Support Coordinator and Financial Counselor activities with/on behalf of Survivors and the program. The Module records details about each Survivor interaction which allows SOS staff to build better relationships with their Survivors and determine the overall effectiveness of their services. This Army-wide program includes Regular Army, United States Army National Guard, and Reserves patrons who provide dedicated and comprehensive support services to all Family members of Soldiers who die while on Active Duty. The collection instrument is completed by SOS staff members who input data collected from Survivors in to the application. The staff members are required to make periodic communication with Survivors—at a minimum of one contact annually—to conduct well-being checks and milestone management reviews or determine level of Support Survivor desires. SOS staff members collect the information from the Survivors and document the information as a direct contact within the SOS application case notes.

Affected Public: Individuals and households.

Annual Burden Hours: 54,013.3.

Number of Respondents: 72,307.

Responses per Respondent: 2.49.

Annual Responses: 180,044.

Average Burden per Response: 18 minutes.

Frequency: On occasion.

Dated: October 14, 2020.
Morgan E. Park,
Alternate OSD Federal Register Liaison Officer, Department of Defense.

[FR Doc. 2020-23094 Filed 10-16-20; 8:45 am]

BILLING CODE 3710-08-P